ENVIRONMENTAL PROTECTION AGENCY

40 CFR Part 52

[EPA-R09-OAR-2014-0495; FRL-9917-82-Region-9]

Revisions of Air Quality Implementation Plan; Nevada; Clark County; Stationary Source Permits

AGENCY: Environmental Protection Agency.

ACTION: Final rule.

SUMMARY: The Environmental Protection Agency (EPA) is finalizing approval of revisions to the Clark County Department of Air Quality (Clark or DEQ) portion of the Nevada State Implementation Plan (SIP). This action was proposed in the Federal Register on July 23, 2014, and concerns seven Clark County permitting related rules submitted by Nevada Division of Environmental Protection (NDEP). Final approval of these rules makes these rules federally enforceable and corrects program deficiencies identified in previous EPA rulemaking.

DATES: These rules will be effective on November 17, 2014.

ADDRESSES: EPA has established docket number EPA-R09-OAR-2014-0495 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Laura Yannayon, EPA Region IX, (415) 972-3534, yannayon.laura@epa.gov.

SUPPLEMENTARY INFORMATION: This action concerns seven Clark County permitting related rules (referred to as Sections) submitted by Nevada Division of Environmental Protection (NDEP): Sections 0—Definitions, 12.0—Applicability, General Requirements and Transition Procedures, 12.1—Permit Requirements for Minor Sources, 12.2—Permit Requirements for Major Sources in Attainment Areas, 12.3—Permit Requirements for Major Sources in Nonattainment Areas, 12.4—Authority to Construct Application and Permit Requirements for Part 70 Sources, and subsection 12.7.5 of Section 12.7—Emission Reduction Credits.

Throughout this document, “we,” “us” and “our” refer to EPA.

Table of Contents

I. Proposed Action

II. Public Comments and EPA Responses

III. EPA Action

IV. Statutory and Executive Order Reviews

I. Proposed Action

On July 23, 2014 (79 FR 42752), EPA proposed to approve the following rules into the Clark portion of the Nevada SIP.

Table 1—Submitted NSR Rules
Section No. | Section title | Adopted | Submitted
0 | Definitions | 3/18/14 | 4/1/14
12.0 | Applicability, General Requirements and Transition Procedures | 3/18/14 | 4/1/14
12.1 | Permit Requirements for Minor Sources | 3/18/14 | 4/1/14
12.2 | Permit Requirements for Major Sources in Attainment Areas (Prevention of Significant Deterioration) | 3/18/14 | 4/1/14
12.3 | Permit Requirements for Major Sources in Nonattainment Areas | 3/18/14 | 4/1/14
12.4 | Authority to Construct Application and Permit Requirements for Part 70 Sources | 3/18/14 | 4/1/14
12.7 (Subsection 12.7.5) | Emission Reduction Credits | 5/18/10 | 4/1/14

We proposed to approve these rules because we determined that they address deficiencies identified in a previous action (77 FR 64039, October 18, 2012), and complied with the relevant CAA requirements. On July 23, 2014, we simultaneously proposed to remove several outdated regulations from the SIP as listed below.

Table 2—Rules Requested To Rescind
Section No. | Section title | Repealed | Submitted
1 | Definitions | 3/18/14 | 4/01/14
11 | Ambient Air Quality Standards | 4/05/11 | 4/01/14
24 | Sampling and Testing—Records and Reports | 3/16/10 | 4/01/14

We have reconsidered our proposed rescission of all of the remaining defined terms in section 1 (“Definitions”) and are taking final action to rescind all of them with the exception of certain defined terms that are necessary to retain because they are relied upon in certain Clark County rules in the existing SIP. The terms in section 1 for which we are deferring final rescission action at this time, and the corresponding Clark County SIP rule that relies on the term, are as follows: “affected facility” (SIP section 23), “dust” (SIP section 27), “existing gasoline station” (SIP section 52), “fumes” (SIP section 27), “mist” (SIP section 1 definition of “uncombined water”), “new gasoline station” (SIP section 52), “new source” (SIP section 26), “single source” (SIP section 26), “standard conditions” (SIP section 30), and “uncombined water” (SIP section 26).

Our proposed action and the associated Technical Support Document (TSD) contains more information on the basis for this rulemaking and on our evaluation of the submitted rules and rule rescissions.

II. Public Comments and EPA Responses

EPA's proposed action provided a 30-day public comment period. During this period, we received no comments.

III. EPA Action

No comments were submitted. Therefore, as authorized in section 110(k)(3) of the Act, EPA is fully approving these rules and rule rescissions ¹ as revisions to the Clark County portion of the Nevada SIP.

¹ As noted above, we are deferring final rescission action on “affected facility”, “dust”, “existing gasoline station”, “fumes”, “mist”, “new gasoline station”, “new source”, “single source”, “standard conditions”, and “uncombined water”.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements, in part, and does not impose additional requirements beyond those imposed by State law. For that reason, this final action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this final rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 16, 2014. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: September 29, 2014.
Alexis Strauss,
Acting Regional Administrator, Region IX.

Therefore, 40 CFR Chapter I is amended as follows:

PART 52—APPROVAL AND PROMULGATION OF IMPLEMENTATION PLANS

1. The authority citation for part 52 continues to read as follows:

Authority: 42 U.S.C. 7401 et seq.

Subpart DD—Nevada

2. In § 52.1470 in paragraph (c), Table 3 is amended by:

a. Revising the entries for “Section 0,” “Section 12.0,” “Section 12.1,” “Section 12.2,” “Section 12.3,” and “Section 12.4”;

b. Adding an entry for “Section 12.7: Subsection 12.7.5” after the entry for “Section 12.4”; and

c. Removing the entries for “Section 1 (“Definitions”): Subsection 1.6”, “Section 1 (“Definitions”): Subsection 1.11”, “Section 1 (“Definitions”): Subsection 1.12”, “Section 1 (“Definitions”): Subsection 1.16”, “Section 1 (“Definitions”): Subsection 1.23”, “Section 1 (“Definitions”): Subsection 1.28”, “Section 1 (“Definitions”): Subsection 1.30”, “Section 1 (“Definitions”): Subsection 1.40”, “Section 1 (“Definitions”): Subsection 1.41”, “Section 1 (“Definitions”): Subsection 1.44”, “Section 1 (“Definitions”): Subsection 1.60”, “Section 1 (“Definitions”): Subsection 1.70”, “Section 1 (“Definitions”): Subsection 1.83”, “Section 1 (“Definitions”): Subsection 1.84”, “Section 1 (“Definitions”): Subsection 1.87”, “Section 1 (“Definitions”): Subsection 1.91”, “Section 1 (“Definitions”): Subsection 1.97”, “Section 11”, and “Section 24: Subsections 24.1-24.5.”

The revised and added text reads as follows:

§ 52.1470 Identification of plan.

* * * * *

(c) * * *

Table 3—EPA-Approved Clark County Regulations
County citation | Title/Subject | County effective date | EPA approval date | Additional explanation
Section 0 | Definitions | 4/1/14 | [Insert Federal Register citation], 10/17/14 | Amended by Clark County Board of County Commissioners on March 18, 2014 through Ordinance No. 4189. Submitted by NDEP on 4/1/14.
* * * * * * *
Section 12.0 | Applicability, General Requirements and Transition Procedures | 4/1/14 | [Insert Federal Register citation], 10/17/14 | Amended by Clark County Board of County Commissioners on March 18, 2014 through Ordinance No. 4189. Submitted by NDEP on 4/1/14.
Section 12.1 | Permit Requirements for Minor Sources | 4/1/14 | [Insert Federal Register citation], 10/17/14 | Amended by Clark County Board of County Commissioners on March 18, 2014 through Ordinance No. 4189. Submitted by NDEP on 4/1/14.
Section 12.2 | Permit Requirements for Major Sources in Attainment Areas (Prevention of Significant Deterioration) | 4/1/14 | [Insert Federal Register citation], 10/17/14 | Amended by Clark County Board of County Commissioners on March 18, 2014 through Ordinance No. 4189. Submitted by NDEP on 4/1/14.
Section 12.3 | Permit Requirements for Major Sources in Nonattainment Areas | 4/1/14 | [Insert Federal Register citation], 10/17/14 | Amended by Clark County Board of County Commissioners on March 18, 2014 through Ordinance No. 4189. Submitted by NDEP on 4/1/14.
Section 12.4 | Authority to Construct Application and Permit Requirements For Part 70 Sources | 4/1/14 | [Insert Federal Register citation], 10/17/14 | Amended by Clark County Board of County Commissioners on March 18, 2014 through Ordinance No. 4189. Submitted by NDEP on 4/1/14.
Section 12.7: Subsection 12.7.5 | Emission Reduction Credits | 7/1/10 | [Insert Federal Register citation], 10/17/14 | The heading for subsection 12.7.5 is “Criteria for Granting ERCs.” Adopted by Clark County Board of County Commissioners on May 18, 2010 through Ordinance No. 3864. Submitted by NDEP on 4/1/14.
* * * * * * *

* * * * *

[FR Doc. 2014-24510 Filed 10-16-14; 8:45 am]

BILLING CODE 6560-50-P